DEPARTMENT OF LABOR

Employment and Training Administration

[TA-W-75,090]

Wausau Daily Herald Advertising Production Division, a Subsidiary of Gannett Co., Inc.; Wausau, WI; Notice of Affirmative Determination Regarding Application for Reconsideration

By application dated March 1, 2011 (received March 7, 2011), the petitioner requested administrative reconsideration of the negative determination regarding workers' eligibility to apply for Trade Adjustment Assistance (TAA) applicable to workers and former workers of Wausau Daily Herald, Advertising Production Division, a subsidiary of Gannett Co., Inc., Wausau, Wisconsin (subject firm). The determination was issued on February 11, 2011. The Department's Notice of Determination will soon be published in the Federal Register. The workers produce newspaper advertisements.

The negative determination was based on the findings that, during the period under investigation, there were no increased imports or an acquisition of services from a foreign country by the workers' firm. The negative determination stated that the worker separations are due to a shift of services to other locations within the United States and the firm did not produce an article or supply a service that was used by a firm with TAA-certified workers in the production of an article or supply of a service that was the basis for TAA-certification.

In the request for reconsideration, the petitioner alleged that “Gannett is outsourcing ads in order to reduce the workforce throughout Gannett Newspapers.” The request also focused on a Gannettoid newsletter, dated August 20, 2009, that stated “Outsourcing will increase from 10% to about 30% being outsourced” and a newsletter, dated November 23, 2009, that stated “we have reinstated outsourcing * * * outsourcing will be setting up visits to those sites who have already accomplished some local area consolidations such as * * * Wisconsin.” The request also referred to other, previously-submitted articles that mention out-sourcing by the subject firm.

The Department has carefully reviewed the request for reconsideration and the existing record, and has determined that the Department will conduct further investigation to determine if the petitioning workers meet the eligibility requirements of the Trade Act of 1974, as amended.

Conclusion

After careful review of the application, I conclude that the claim is of sufficient weight to justify reconsideration of the U.S. Department of Labor's prior decision. The application is, therefore, granted.

Signed at Washington, DC, this 18th day of March, 2011.
Del Min Amy Chen,
Certifying Officer, Office of Trade Adjustment Assistance.

[FR Doc. 2011-7266 Filed 3-28-11; 8:45 am]

BILLING CODE 4510-FN-P